SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before May 11, 2001.

ADDRESSES: Send all comments regarding whether this information collection is necessary for the proper performance of the function of the agency, whether the burden estimate is accurate, and if there are ways to minimize the estimated burden and enhance the quality of the collection, to Jacqueline Fleming, National Training Coordinator, Business Development, Small Business Administration, 409 3rd Street, SW., Suite 8000.

FOR FURTHER INFORMATION CONTACT: Jacqueline Fleming, National Training Coordinator, 202-205-6177 or Curtis B. Rich, Management Analyst, (202) 205-7030.

SUPPLEMENTARY INFORMATION: Title: “Client's Report of 7(j) Task Order Service Received”.

Form No: 1540.

Description of Respondents: Client's that require the completion of the 7(j) Task Order.

Annual Responses: 1,000.

Annual Burden: 100.

ADDRESSES: Send all comments regarding whether this information collection is necessary for the proper performance of the function of the agency, whether the burden estimate is accurate, and if there are ways to minimize the estimated burden and enhance the quality of the collection, to John Bebris, Deputy Assistant Administrator, Business Community Initiatives, Small Business Administration, 409 3rd Street, SW., Suite 6100.

FOR FURTHER INFORMATION CONTACT: John Bebris, Deputy Assistant Administrator 202-205-6665 or Curtis B. Rich, Management Analyst, (202) 205-7030.

SUPPLEMENTARY INFORMATION: Title: “Request for Counseling”.

Form No's: 641 & 641A.

Description of Respondents: Individuals requesting management counseling from SBA.

Annual Responses: 600,000.

Annual Burden: 150,000.

ADDRESSES: Send all comments regarding whether this information collection is necessary for the proper performance of the function of the agency, whether the burden estimate is accurate, and if there are ways to minimize the estimated burden and enhance the quality of the collection, to Doris Young, Grants Management Specialist, Procurement & Grants Management, Small Business Administration, 409 3rd Street, SW., Suite 5000.

FOR FURTHER INFORMATION CONTACT: Doris Young, Grants Management Specialist 202-205-7091 or Curtis B. Rich, Management Analyst, (202) 205-7030.

SUPPLEMENTARY INFORMATION: Title: “Notice of Award Grant/Cooperative Agreement Cost Sharing Proposal”.

Form No's: 1222 & 1224.

Description of Respondents: SBA Grant Application and Recipients.

Annual Responses: 427.

Annual Burden: 30,141.

ADDRESSES: Send all comments regarding whether these information collections are necessary for the proper performance of the function of the agency, whether the burden estimate is accurate, and if there are ways to minimize the estimated burden and enhance the quality of the collections, to Saunders Miller, Investment Policy Analyst, Investment Division, Small Business Administration, 409 3rd Street, SW., Suite 6300.

FOR FURTHER INFORMATION CONTACT: Saunders Miller, Investment Policy Analyst 202-205-3646 or Curtis B. Rich, Management Analyst, (202) 205-7030.

SUPPLEMENTARY INFORMATION: Title: “New Markets Venture Capital Program”.

Form No: 468.

Description of Respondents: New Market Candidates.

Annual Responses: 25.

Annual Burden: 1,200.

SUPPLEMENTARY INFORMATION: Title: “Financing Eligibility Statement Social Disadvantaged-Economic Disadvantaged”.

Form No's: 1941A, 1941B, 1941C.

Description of Respondents: SBA Business Seeking Financing from Specialist; Small Business Investment Companies (SBIC).

Annual Responses: 1,000.

Annual Burden: 2,000.

ADDRESSES: Send all comments regarding whether this information collection is necessary for the proper performance of the function of the agency, whether the burden estimate is accurate, and if there are ways to minimize the estimated burden and enhance the quality of the collection, to Delorice Ford, Associate Administrator for Business Development, Small Business Administration, 409 3rd Street, SW., Suite 8000.

FOR FURTHER INFORMATION CONTACT: Delorice Ford, Associate Administrator for Business Development 202-205-7340 or Curtis B. Rich, Management Analyst, (202) 205-7030.

SUPPLEMENTARY INFORMATION: Title: “BusinessLINC Program.”

Form No: 2184.

Description of Respondents: Small Business Owners.

Annual Responses: 40.

Annual Burden: 4,000.

Jacqueline White,
Chief, Administrative Information Branch.

[FR Doc. 01-6104 Filed 3-9-01; 8:45 am]

BILLING CODE 8025-01-U